DEPARTMENT OF ENERGY

Federal Energy Regulatory Commission

[Docket No. PF17-4-000]

Jordan Cove Energy Project, L.P., Pacific Connector Gas Pipeline, L.P.; Notice of Intent To Prepare an Environmental Impact Statement for the Planned Jordan Cove LNG Terminal and Pacific Connector Pipeline Projects, Request for Comments on Environmental Issues, and Notice of Public Scoping Sessions

The staff of the Federal Energy Regulatory Commission (FERC or Commission) will prepare an environmental impact statement (EIS) that will discuss the impacts of the planned Jordan Cove LNG Terminal and Pacific Connector Pipeline Projects (collectively referred to as the Project). The FERC is the lead federal agency for the preparation of the EIS. The U.S. Army Corps of Engineers (USACE), U.S. Department of Energy (DOE), Bureau of Land Management (BLM), Bureau of Reclamation (Reclamation), U.S. Forest Service (Forest Service), and the Bonneville Power Administration (BPA) are Cooperating Agencies and can adopt the EIS for their respective purposes and permitting actions.

Jordan Cove Energy Project, L.P. (JCEP) plans to construct and operate a liquefied natural gas (LNG) production, storage, and export facility in Coos County, Oregon. Pacific Connector Gas Pipeline, L.P. (PCGP) plans to construct and operate an interstate natural gas transmission pipeline and associated facilities in Coos, Douglas, Jackson, and Klamath Counties, Oregon. The Commission will use this EIS in its decision-making process to determine whether the Jordan Cove LNG Terminal is in the public interest and the Pacific Connector Pipeline is in the public convenience and necessity. Other federal agencies may adopt the EIS when making their respective determinations or decisions.

This notice announces the opening of the public comment period, commonly referred to as scoping. You can make a difference by providing your comments. Your comments should focus on potential environmental impacts, reasonable alternatives, and measures to avoid or lessen environmental impacts. This scoping opportunity is for the entire Project, including actions and proposed plan amendments of the Cooperating Agencies listed above. The Forest Service also seeks comments specific to the 2012 planning rule requirements at §§ 219.8 through 219.11 that are likely to be directly related to the proposed amendments. To ensure that your comments are timely and properly recorded, please send your comments so that the Commission receives them in Washington, DC on or before July 10, 2017.

If you submitted comments on this project before February 10, 2017, you will need to refile those comments in FERC Docket No. PF17-4-000 to ensure they are considered as part of this proceeding. If you sent comments on a previous iteration of this project, you will also need to refile those comments in FERC Docket No. PF17-4-000.

This notice is being sent to the Commission's current environmental mailing list for the Project. State and local government representatives should notify their constituents of this project and encourage them to comment on their areas of concern.

If you are a landowner receiving this notice, a PCGP company representative may contact you about the acquisition of an easement to construct, operate, and maintain the planned pipeline. The company would seek to negotiate a mutually acceptable agreement. However, if the Commission approves the project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically asked questions, including the use of eminent domain and how to participate in the Commission's proceedings.

Public Participation

For your convenience, there are four methods you can use to submit your comments to the Commission. The Commission encourages electronic filing of comments and has expert staff available to assist you by phone at (202) 502-8258 or via email at FercOnlineSupport@ferc.gov. Please carefully follow these instructions so that your comments are properly recorded. If you include personal information along with your comments, please be aware that this information (address, phone number, and/or email address) would become publicly available in the Commission's eLibrary.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to include docket number PF17-4-000 with your submission: Kimberly D. Bose, Secretary, Federal Energy Regulatory Commission, 888 First Street NE., Room 1A, Washington, DC 20426.

(4) In lieu of sending written or electronic comments, the Commission invites you to attend one the public scoping sessions its staff will conduct in the project area, scheduled as follows:

Date and time | Location
Tuesday, June 27, 2017, 4:00 p.m. to 7:00 p.m | Sunset Middle School, Library and Commons Rooms, 245 South Cammann Street, Coos Bay, OR 97420
Wednesday, June 28, 2017, 4:00 p.m. to 7:00 p.m | Umpqua Community College, Jackson Hall, Rooms 11 & 12, 1140 Umpqua College Road, Roseburg, OR 97470
Thursday, June 29, 2017, 4:00 p.m. to 7:00 p.m | Oregon Institute of Technology, College Union Building, Mt. Bailey and Mt. Theilsen Rooms, 3201 Campus Drive, Klamath Falls, OR 97601

The primary goal of these scoping sessions is to have you identify the specific environmental issues and concerns that should be considered in the EIS to be prepared for this project. Individual verbal comments will be taken on a one-on-one basis with a court reporter. This format is designed to receive the maximum amount of verbal comments in a convenient way during the timeframe allotted.

Each scoping session is scheduled from 4:00 p.m. to 7:00 p.m. Pacific Daylight Time. There will be no formal presentation by Commission staff when the session opens. If you wish to provide comments, the Commission staff will issue numbers in the order of your arrival. Please see Appendix 2 ¹ for additional information on the session format and conduct expectations.

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Your comments will be recorded by the court reporter (with FERC staff or representative present) and become part of the public record for this proceeding. Transcripts will be publicly available through the FERC's eLibrary system (see below for instructions on using eLibrary). If a significant number of people are interested in providing verbal comments, a time limit of 5 minutes may be implemented for each commenter.

Verbal comments hold the same weight as written or electronically submitted comments. Although there will not be a formal presentation, Commission staff will be available throughout the comment session to answer your questions about the environmental review process.

The submission of timely and specific comments, whether submitted in writing or orally at a scoping session, can affect a reviewer's ability to participate in a subsequent administrative or judicial review of BLM and/or Forest Service decisions. Comments concerning BLM and Forest Service actions submitted anonymously will be accepted and considered; however such anonymous submittals would not provide the commenters with standing to participate in administrative or judicial review of BLM and Forest Service decisions.

Summary of the Planned Project

JCEP plans to construct and operate an LNG export terminal on the North Spit of Coos Bay in Coos County, Oregon. The terminal would include gas inlet facilities, a metering station, a gas conditioning plant, five liquefaction trains and associated equipment, two full-containment LNG storage tanks, an LNG transfer line, LNG ship loading facilities, a marine slip, a marine offloading facility, a new access channel between the Coos Bay Navigation Channel and the new marine slip, and enhancements to the existing Coos Bay Navigation Channel at four turns. In addition, the terminal would include emergency and hazard, electrical, security, control, and support systems, administrative buildings, and a temporary workforce housing facility. The LNG terminal would be designed to liquefy about 1.04 billion cubic feet per day of LNG for export to markets across the Pacific Rim.

PCGP plans to construct and operate an approximately 235-mile-long, 36-inch-diameter interstate natural gas transmission pipeline and associated aboveground facilities. The pipeline would originate near Malin in Klamath County, Oregon, traverse Douglas and Jackson Counties, and terminate (at the LNG Terminal) in Coos County, Oregon. The pipeline would be capable of transporting about 1.2 billion cubic feet per day of natural gas. The associated aboveground facilities would include the new Klamath Compressor Station (61,500 horsepower) near Malin, Oregon; 3 new meter stations; 5 new pig launchers and receivers; 17 mainline block valves; and a gas control communication system.

The general locations of the Project facilities are shown on maps included in Appendix 1. In addition, PCGP provides detailed mapping of its pipeline route on its Web page at http://pacificconnectorgp.com/project-overview/.

Land Requirements for Construction

About 530 acres of land would be disturbed by construction of the LNG Terminal. JCEP owns about 300 acres of this land, and the remaining 230 acres would be leased from private landowners. Following construction, about 170 acres would be retained for operation of the LNG terminal facilities.

About 5,060 acres of land would be disturbed by construction of the Pacific Connector Pipeline Project. Following construction, a 50-foot-wide easement, totaling about 1,415 acres, would be permanently maintained for operation of the pipeline. The majority of the remaining 3,620 acres disturbed by pipeline construction would be restored and returned to previous use, while about 25 acres would be maintained for a new compressor station and other new aboveground facilities. Land ownership of the approximately 235 miles of permanent pipeline operational easement is approximately 162 miles private land, 40 miles BLM, 31 miles Forest Service, and 2 miles Reclamation.

The EIS Process

The National Environmental Policy Act (NEPA) requires the Commission to take into account the environmental impacts that could result from an action whenever it considers the authorization of LNG facilities under Section 3 of the Natural Gas Act and pipeline facilities under Section 7 of the Natural Gas Act. NEPA also requires the Commission to discover and address concerns the public may have about proposals. This process is commonly referred to as scoping. The main goal of the scoping process is to identify the important environmental issues the Commission's staff should focus on in the EIS. By this notice, the Commission requests public comments on the scope of issues to be addressed in the EIS. The FERC and the Cooperating Agencies will consider all filed comments during the preparation of the EIS.

The EIS will discuss the impacts that could occur as a result of the construction and operation of the planned Project under these general headings:

• Geology and soils;

• water resources and wetlands;

• vegetation, fisheries, and wildlife;

• protected species;

• land use;

• socioeconomics;

• cultural resources;

• air quality and noise;

• public safety and reliability; and

• cumulative impacts.

The FERC and the Cooperating Agencies will also evaluate reasonable alternatives to the planned project or portions thereof; and make recommendations on how to avoid or minimize impacts on the various resource areas.

Although no formal application has been filed with FERC, FERC has already initiated a review of the project under the Commission's pre-filing process. The purpose of the pre-filing process is to encourage early involvement of interested stakeholders and to identify and resolve issues before the FERC receives an application. As part of its pre-filing review, FERC has begun to contact interested federal and state agencies to discuss their involvement in the scoping process and the preparation of the EIS.

As stated previously, the FERC will be the lead federal agency for the preparation of the EIS. The USACE, BLM, Reclamation, and Forest Service all have NEPA responsibilities related to their respective permitting actions, and can adopt the EIS for their own agency's purposes. The BLM, Reclamation, and Forest Service intend to adopt this EIS to evaluate the effects of the pipeline portion of the Project on lands and facilities managed by each respective agency, and to support decision-making regarding the issuance of and concurrence with the right-of-way grant and the associated plan amendments.²

² BLM land management plans are called “Resource Management Plans” or RMPs. Forest Service land management plans are called “Land and Resource Management Plans” or LRMPs. The term “land management plan” is generic and may apply to either an RMP or LRMP.

The EIS will present the FERC's and the Cooperating Agencies' independent analysis of the issues. The FERC will publish and distribute the draft EIS for public comment. After the comment period, the FERC and the Cooperating Agencies will consider all timely comments and revise the document, as necessary, before issuing a final EIS. To ensure the FERC and the Cooperating Agencies have the opportunity to consider and address your comments, please carefully follow the instructions in the Public Participation section.

With this notice, the FERC is asking agencies with jurisdiction by law and/or special expertise with respect to environmental issues related to this project to formally cooperate with us in the preparation of the EIS.³ Agencies that would like to request cooperating agency status should follow the instructions for filing comments provided in the Public Participation section.

³ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, this notice initiates consultation with Oregon's State Historic Preservation Office (SHPO), and solicits its views and those of other government agencies, interested Indian tribes, and the public on the Project's potential effects on historic properties.⁴ The project-specific Area of Potential Effects (APE) will be defined in consultation with the SHPO as the Project develops. On natural gas facility projects, the APE at a minimum encompasses all areas subject to ground disturbance (examples include LNG terminal site, pipeline construction work area, contractor/equipment storage yards, and access roads). The EIS for this Project will document the findings on the impacts on historic properties and summarize the status of consultations under section 106.

⁴ The Advisory Council on Historic Preservation regulations are at Title 36, Code of Federal Regulations, Part 800. Those regulations define historic properties as any prehistoric or historic district, site, building, structure, or object included in or eligible for inclusion in the National Register of Historic Places.

Currently Identified Environmental Issues

The Commission's environmental staff has already identified several issues that merit attention based on a preliminary review of the planned facilities, the environmental information provided by the applicants, analysis conducted previously, and early comments filed with FERC. This preliminary list of issues may change based on your comments and further analysis. Preliminary issues include:

• Reliability and safety of LNG carrier traffic in Coos Bay, the LNG terminal, and natural gas pipeline;

• impacts on aquatic resources from dredging the LNG terminal access channel and slip, and from multiple pipeline crossings of surface waters;

• potential impacts on the LNG Terminal resulting from an earthquake or tsunami;

• impacts of pipeline construction on federally listed threatened and endangered species, including salmon, marbled murrelet, and northern spotted owl; and

• impacts of pipeline construction on private landowners, including use of eminent domain to obtain right-of-way.

Preliminary Planning Criteria Identified by the BLM

The BLM Preliminary Planning Criteria for its proposed land management plan amendments include:

• Impacts to stand function for listed species, specifically northern spotted owl and marbled murrelet in BLM-managed Late Successional Reserves (LSR); and

• consent by the Federal surface managing agencies, Forest Service and Reclamation.

Preliminary Issues and Planning Criteria Identified by the Forest Service

The Forest Service has identified preliminary issues for its proposed land and resource management plan (LRMP) amendments. The issues include:

• Effects of proposed amendments on Survey and Manage species and their habitat;

• effects of the proposed amendments on LSRs; and

• effects of the proposed amendments on Riparian Reserves, detrimental soil conditions, and Visual Quality Objectives.

Planning Rule Requirements for LRMP Amendments

The Forest Service seeks public input on issues and planning rule requirements on proposed amendments of their Forest land management plans related to the Pacific Connector Pipeline Project. Additional information regarding the proposed amendments is included at the end of this NOI.

Proposed Actions of the BLM

The purpose of and need for the proposed action by the BLM is to respond to a right-of-way grant application originally submitted by Pacific Connector L.P. to construct, operate, maintain, and eventually decommission a natural gas pipeline that crosses lands and facilities administered by the BLM, Reclamation, and Forest Service. In addition, there is a need for the BLM to consider amending affected District land management plans to make provision for the Pacific Connector right-of-way. Additional detail on proposed actions by the BLM is provided at the end of this NOI.

Proposed Actions of the Forest Service

The purpose of and need for the proposed action by the Forest Service is to consider amending affected National Forest land management plans to make provision for the Pacific Connector right-of-way. The Responsible Official for amendment of Forest Service LRMPs is the Forest Supervisor of the Umpqua National Forest. If the Forest Service adopts the FERC EIS for the Pacific Connector Pipeline Project (in FERC Docket No. PF17-4-000), the Forest Supervisor of the Umpqua National Forest will make the following decisions and determinations:

• Decide whether to amend the LRMPs of the Umpqua, Rogue River, and Winema National Forests as proposed or as described in an alternative.

Additional detail on proposed actions by the Forest Service is provided at the end of this NOI.

Environmental Mailing List

The environmental mailing list includes Federal, State, and local government representatives and agencies; elected officials; environmental and public interest groups; Native American Tribes; other interested parties; and local libraries and newspapers. This list also includes all affected landowners (as defined in the Commission's regulations), whose property may be used temporarily for project purposes, or who own homes within certain distances of aboveground facilities, and anyone who submits comments on the Project. The FERC will update the environmental mailing list as the analysis proceeds to ensure that the information related to this environmental review is sent to all individuals, organizations, and government entities interested in and/or potentially affected by the planned project.

Copies of the draft EIS will be sent to the environmental mailing list for public review and comment. If you would prefer to receive a paper copy of the document instead of a compact disc or would like to remove your name from the mailing list, please return the attached Information Request (Appendix 2).

Becoming an Intervenor

Once JCEP and PCGP file applications with the Commission, you may want to become an “intervenor,” which is an official party to the Commission's proceeding. Intervenors play a more formal role in the process and are able to file briefs, appear at hearings, and be heard by the courts if they choose to appeal the Commission's final ruling. An intervenor formally participates in the proceeding by filing a request to intervene. Motions to intervene are more fully described at http://www.ferc.gov/resources/guides/how-to/intervene.asp. Instructions for becoming an intervenor are in the “Document-less Intervention Guide” under the “e-filing” link on the Commission's Web site. Please note that the Commission will not accept requests for intervenor status at this time. You must wait until the Commission receives a formal application for the project.

BLM Administrative Remedy Process

Under the provisions of 43 CFR 1610.5-2, proposed decision(s) of the BLM to amend land management plans are subject to protest with the Director of the BLM following publication of the Final EIS. In accordance with 43 CFR, Part 4, the BLM's decision on the application for a right-of-way grant will be subject to appeal to the Interior Board of Land Appeals.

Administrative Review of Forest Service Decisions To Amend Land Management Plans

The proposed Forest Service plan amendments are being developed in accordance with the planning regulations at 36 CFR 219 (2012). Decisions by the Forest Service to approve “plan level” amendments to Land Management Plans (proposed amendments UNF-4 and RRNF-7 in this Notice) are subject to the Pre-Decisional Administrative Review Process Regulations at 36 CFR 219 Subpart B. The term “plan level” refers to plan amendments that would apply to future management actions.

Decisions by the Forest Service to approve “project-specific” plan amendments (proposed amendments UNF-1 thru 3, RRNF-2 thru 6, and WNF-1 thru 5 in this Notice) are subject to the Administrative Review Process of 36 CFR 218 Subpart A and B, in accordance with 36 CFR 219.59 (b). The term “project specific” refers to amendments that would only apply to the proposed project and would not apply to any future management actions.

The Forest Service concurrence to BLM to issue a right-of-way grant would not be a decision subject to the NEPA and, therefore, would not be subject to the Forest Service administrative review procedures.

Additional Information

Additional information about the Project is available from the Commission's Office of External Affairs, at (866) 208-FERC, or on the FERC Web site (www.ferc.gov) using the eLibrary link. Click on the eLibrary link, click on “General Search” and enter the docket number, excluding the last three digits in the Docket Number field (i.e., PF17-4). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: June 9, 2017.
Kimberly D. Bose,
Secretary.

[FR Doc. 2017-12393 Filed 6-14-17; 8:45 am]

BILLING CODE 6717-01-P